NATIONAL AERONAUTICS AND SPACE ADMINISTRATION

[Notice 09-039]

Notice of Intent To Grant Exclusive License

AGENCY: National Aeronautics and Space Administration.

ACTION: Notice of Intent to Grant Exclusive License.

SUMMARY: This notice is issued in accordance with 35 U.S.C. 209(c)(1) and 37 CFR 404.7(a)(1)(i). NASA hereby gives notice of its intent to grant an exclusive license in the United States to Ocean Tomo Federal Services, having its principal place of business in Bethesda MD, to promote the utilization by the public of the inventions described and claimed in the following U.S. Patents by, inter alia, engaging in marketing activities: “Microresonator and associated method for producing and controlling photonic signals with a photonic bandgap delay apparatus”, U.S. Patent No. 6,028,693; “Fabrication of fiber optic grating apparatus and method”, U.S. Patent No. 6,873,762; “Video guidance sensor system with laser rangefinder”, U.S. Patent No. 6,658,329; “Video image tracking engine”, U.S. Patent No. 6,778,180; “Video guidance sensor system with integrated rangefinding”, U.S. Patent No. 7,006,203; “Synchronized docking system”, U.S. Patent No. 6,254,035; “Synchronized autonomous docking system”, U.S. Patent No. 6,227,495; “Control method for video guidance sensor system”, U.S. Patent No. 6,888,476; “Fiber coupled laser diodes with even illumination pattern”, U.S. Patent No. 7,174,077; “Video sensor with range measurement capability”, U.S. Patent No. 7,375,801.

The patent rights in these inventions have been assigned to the United States of America as represented by the Administrator of the National Aeronautics and Space Administration. The prospective exclusive licenses will comply with the terms and conditions of 35 U.S.C. 209 and 37 CFR 404.7. NASA has not yet made a determination to grant exclusive licenses and may deny the requested licenses even if no objections are submitted within the comment period.

DATES: The prospective exclusive license may be granted unless, within fifteen (15) days from the date of this published notice, NASA receives written objections including evidence and argument that establish that the grant of exclusives licenses would not be consistent with the requirements of 35 U.S.C. 209 and 37 CFR 404.7. Competing applications completed and received by NASA within fifteen (15) days of the date of this published notice will also be treated as objections.

Objections submitted in response to this notice will not be made available to the public for inspection and, to the extent permitted by law, will not be released under the Freedom of Information Act, 5 U.S.C. 552.

ADDRESSES: Objections relating to the prospective license may be submitted to James J. McGroary, Chief Patent Counsel/LS01, Marshall Space Flight Center, Huntsville, AL 35812, (256) 544-0013.

FOR FURTHER INFORMATION CONTACT: Sammy A. Nabors, Technology Transfer Program Office/ED03, Marshall Space Flight Center, Huntsville, AL 35812, (256) 544-5226. Information about other NASA inventions available for licensing can be found online at http://technology.nasa.gov/.

Dated: May 1, 2009.
Richard W. Sherman,
Deputy General Counsel.

[FR Doc. E9-10498 Filed 5-5-09; 8:45 am]

BILLING CODE 7510-13-P